POSTAL SERVICE

39 CFR Part 111

Insurance Claims Process Changes

AGENCY: Postal Service™.

ACTION: Proposed rule.

SUMMARY: The Postal Service proposes to revise its regulations governing the processing and adjudication of domestic mail insurance claims in order to streamline the claims process and to provide customers with more consistent service.

DATES: Submit comments on or before February 26, 2009.

ADDRESSES: Address all comments to the Manager, Mailing Standards, U.S. Postal Service, Room 3436, 475 L'Enfant Plaza, SW., Washington, DC 20260-3436. Copies of all comments will be available for inspection and photocopying between 9 a.m. and 4 p.m., Monday through Friday in the USPS Headquarters Library on the 11th Floor at the above address.

FOR FURTHER INFORMATION CONTACT: Monica Grein, 202-268-8411.

SUPPLEMENTARY INFORMATION: The Postal Service is proposing to revise its procedures for processing and adjudicating domestic mail insurance claims in order to streamline the claims process and to provide its customers with more consistent service. It proposes to do this by making its online claims processing service available to customers who purchase domestic insurance through any retail channel—i.e., usps.com, Automated Postal Center® kiosks, local Post Office™ facilities, or authorized PC Postage® providers. Currently, the online process can only be used by customers who purchase postage and insurance through Click-N-Ship® or eBay®. In addition, the proposal would allow Express Mail® customers to file online claims, even if no additional insurance was purchased. The proposal would also allow Collect on Delivery (COD) and Registered Mail™ claims to be filed by mail or at a Post Office; however, they could not be filed online.

The proposal would also permit a customer to file a claim by downloading a form from usps.com and mailing it directly to Postal Service Accounting Services in St. Louis, MO. Customers also could continue to file claim forms at a local Post Office.

Under the proposal, local Post Office facilities would no longer adjudicate insurance claims. To ensure consistency and service quality, all claims would be adjudicated by Accounting Services.

The proposal also would change the current damaged goods inspection policy for domestic claims. The proposal would require a customer to retain her or his damaged article and container, including packaging, wrapping, and any other contents received, until the claim is fully resolved. Customers would no longer be required to take these materials to the Post Office at the time a claim is filed. Rather, upon receiving a request from the Postal Service, they would be required to turn the materials over to their local Post Office for inspection, retention, and disposition in accordance with the claims decision.

This proposal also would update the Registered Mail section by changing the term uninsured Registered Mail to Registered Mail with no declared value to reflect current policy.

Although exempt from the notice and comment requirements of the Administrative Procedure Act [5 U.S.C. 553(b), (c)], regarding proposed rulemaking by 39 U.S.C. 410(a), the Postal Service invites comments on the following proposed revision of the Domestic Mail Manual, incorporated by reference in the Code of Federal Regulations. See 39 CFR part 111.

List of Subjects in 39 CFR Part 111

Administrative practice and procedure, Postal Service.

PART 111—[AMENDED]

1. The authority citation for 39 CFR Part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

* * * * *

500 Additional Mailing Services

503 Extra Services

* * * * *

2.0 Registered Mail

* * * * *

[Revise heading of 2.6 as follows:]

2.6 Inquiry on Article With No Declared Value

2.6.1 Who May File

[Revise 2.6.1 to read as follows:]

If postal insurance was purchased, the claim procedures in 609 apply. The procedures in this section apply only to Registered Mail with no declared value. Only the mailer may file an inquiry on Registered Mail with no declared value. For matter registered with no declared value but with merchandise return service, only the permit holder may file an inquiry.

[Revise the heading of 2.6.2 to read as follows:]

2.6.2 When and How To File

[Revise introductory paragraph to read as follows, and delete items 2.6.2a, 2.6.2b, and 2.6.2c:]

The mailer may not file any inquiry until 15 days after the mailing date of the article. An inquiry may be filed at any Post Office, classified station, or classified branch, except for an inquiry about matter registered with merchandise return service, which must be filed by the permit holder at the Post Office where the permit is held. An inquiry for Registered Mail with no declared value must be filed by completing a PS Form 1000, Domestic or International Claim, which may be obtained from any Post Office or online at www.usps.com/forms/_pdf/ps1000.pdf.

* * * * *

600 Basic Standards for All Mailing Services

* * * * *

609 Filing Indemnity Claims for Loss or Damage

1.0 General Filing Instructions

* * * * *

1.5 Where To File

[Revise 1.5 to read as follows:]

A claim may be filed:

a. Via mail to Domestic Claims, Accounting Services (see 608.8.0 for address) for insured mail, Registered Mail, COD, and Express Mail.

b. Online at www.usps.com/insuranceclaims/online.htm for domestic insured mail and Express Mail. Claims for COD and Registered Mail cannot be filed online.

c. By submitting the required information at any Post Office facility for mailing to Accounting Services in St. Louis.

* * * * *

1.6 How To File

[Revise 1.6 by deleting existing text and adding 1.6.1 and 1.6.2 to read as follows:]

1.6.1 Claims Filed by Mail

Customers may file a claim by completing a PS Form 1000, Domestic or International Claim, and mailing it to Domestic Claims, Accounting Services (see 608.8.0 for address). Customers may print PS Form 1000 from www.usps.com/insuranceclaims. Evidence of value is required and must accompany the PS Form 1000. Evidence of insurance must be retained by the customer until the claim is resolved. For Express Mail COD and Registered Mail COD claims, the customer must provide both the original COD receipt and the Express Mail receipt or the Registered Mail receipt. Upon written request by the USPS, the customer must submit proof of damage (see 2.0) for damaged items or missing contents, in person to a local Post Office for inspection, retention, and disposition in accordance with the claims decision.

1.6.2 Claims Filed Online

Customers may file a claim online for insured mail and Express Mail at www.usps.com/insuranceclaims/online.htm. Evidence of value is required and may be submitted as an uploaded file or sent via First-Class Mail to Domestic Claims, Accounting Services (see 608.8.0 for address). Evidence of insurance must be retained by the customer until the claim is resolved. Upon written request by the USPS, the customer must submit proof of damage (see 2.0) for damaged items or missing contents, in person to a local Post Office for inspection, retention, and disposition in accordance with the claims decision. COD and Registered Mail claims cannot be filed online.

1.6.3 Claims Filed at the Post Office

A customer may file a claim form, PS Form 1000, at a local Post Office, which will then forward the form to Accounting Services in St. Louis. Customers may print PS Form 1000 from www.usps.com/insuranceclaims. Evidence of value is required and must accompany the PS Form 1000. Evidence of insurance must be retained by the customer until the claim is resolved. For Express Mail COD and Registered Mail COD claims, the customer must provide both the original COD receipt and the Express Mail receipt or the Registered Mail receipt. Upon written request by the USPS, the customer must submit proof of damage (see 2.0) for damaged items or missing contents, in person to a local Post Office for inspection, retention, and disposition in accordance with the claims decision.

* * * * *

2.0 Providing Proof of Loss or Damage

2.1 Missing Contents

[Revise the first sentence of 2.1 to read as follows:]

If a claim is filed because some or all of the contents are missing, the addressee must retain the mailing container, including wrapping, packaging, and any contents that were received, and must, upon written request by the USPS, make them available to the local Post Office for inspection, retention, and disposition in accordance with the claims decision. * * *

2.2 Proof of Damage

[Revise the first and second sentences of 2.2 to read as follows:]

If the addressee files the claim, the addressee must retain the damaged article and mailing container, including wrapping, packaging, and contents, and must, upon written request by the USPS, make them available for inspection. If the mailer files the claim, Accounting Services in St. Louis may notify the addressee by letter to present the damaged article and mailing container, including any wrapping, packaging, and any other contents received, to a local Post Office for inspection, retention, and disposition in accordance with the claims decision. * * *

3.0 Providing Evidence of Insurance and Value

3.1 Evidence of Insurance

[Revise introductory paragraph and item 3.1a to read as follows:]

For a claim involving insured mail, Registered Mail, COD, or Express Mail, the customer must retain evidence showing that the particular service was purchased until the claim is resolved. Examples of acceptable evidence of insurance are:

a. The original mailing receipt issued at the time of mailing (retail insured mail, Registered Mail, and COD receipts must contain a USPS postmark). If the original mailing receipt is not available, the original USPS sales receipt listing the mailing receipt number and insurance amount is acceptable. Reproduced copies are not acceptable for Registered Mail and COD claims. Customers filing online claims may scan the receipt and submit as an uploaded file.

* * * * *

[Delete item 3.1d, and redesignate current items 3.1e and 3.1f as 3.1d and 3.1e.]

* * * * *

3.2 Evidence of Value

[Revise introductory paragraph of 3.2 to add online option as follows:]

The customer (either the mailer or the addressee) must submit acceptable evidence to establish the cost or value of the article at the time it was mailed. For claims submitted online, the evidence may be scanned and uploaded or sent via First-Class Mail to Domestic Claims, Accounting Services (see 608.8.0 for address). (Other evidence may be requested to help determine an accurate value.) Examples of acceptable evidence are:

* * * * *

6.0 Adjudication of Claims

6.1 Initial Adjudication of Claims

[Revise 6.1 to read as follows:]

Accounting Services in St. Louis adjudicates and determines whether to uphold a claim in full, uphold a claim in part, or deny a claim in full. Domestic insurance claims may be filed online through www.usps.com/insuranceclaims/online.htm, via mail to Domestic Claims Accounting Services (see 608.8 for address), or by filing it at a local Post Office. Claims for COD and Registered Mail cannot be filed online.

6.2 Appealing a Claim Decision

[Revise 6.2 to read as follows:]

A customer may appeal a claim decision by filing a written appeal to Domestic Claims Appeals, Accounting Services (see 608.8 for address) within 60 days of the date of the original decision. A customer may also appeal a claim decision online through www.usps.com/insuranceclaims/online.htm if the original claim was filed online.

6.3 Final USPS Decision of Claims

[Revise text of 6.3 by adding a new last sentence as follows:]

* * * The customer may file the additional appeal online if the original appeal was filed online.

* * * * *

We will publish an appropriate amendment to 39 CFR 111 to reflect these changes if our proposal is adopted.

Neva R. Watson,
Attorney, Legislative.

[FR Doc. E9-1645 Filed 1-26-09; 8:45 am]

BILLING CODE 7710-12-P